OFFICE OF THE UNITED STATES TRADE REPRESENTATIVE

Notice of Amendment to Product Exclusion and Product Exclusion Extension: China's Acts, Policies, and Practices Related to Technology Transfer, Intellectual Property, and Innovation

AGENCY: Office of the United States Trade Representative.

ACTION: Notice.

SUMMARY: Effective September 24, 2018, the U.S. Trade Representative imposed additional duties on goods of China with an annual trade value of approximately $200 billion as part of the action in the Section 301 investigation of China's acts, policies, and practices related to technology transfer, intellectual property, and innovation. On June 24, 2019, the U.S. Trade Representative established a process by which U.S. stakeholders could request the exclusion of particular products subject to the action. The exclusions granted under the $200 billion action were scheduled to expire on August 7, 2020. On May 6 and June 3, 2020, the U.S. Trade Representative invited the public to comment on whether to extend particular exclusions. On August 11, 2020, the U.S. Trade Representative announced its determination to extend certain previously granted exclusions. This notice announces the U.S. Trade Representatives determination to make a technical amendment to a previously granted exclusion and the extension to that exclusion.

DATES: The product exclusion amendment announced in annex A of this notice will apply from September 24, 2018 to August 7, 2020. The product exclusion extension amendment announced in annex B of this notice will apply from August 7, 2020 and continue through December 31, 2020. This notice does not further extend the period for product exclusions or extensions. U.S. Customs and Border Protection will issue instructions on entry guidance and implementation.

FOR FURTHER INFORMATION CONTACT: For general questions about this notice, contact Associate General Counsel Philip Butler or Assistant General Counsel Benjamin Allen, or Director of Industrial Goods Justin Hoffmann at (202) 395-5725. For specific questions on customs classification or implementation of the product exclusions identified in the Annex to this notice, contact traderemedy@cbp.dhs.gov.

SUPPLEMENTARY INFORMATION:

A. Background

For background on the proceedings in this investigation, please see prior notices including 82 FR 40213 (August 24, 2017), 83 FR 14906 (April 6, 2018), 83 FR 28710 (June 20, 2018), 83 FR 33608 (July 17, 2018), 83 FR 38760 (August 7, 2018), 83 FR 47974 (September 21, 2018), 83 FR 49153 (September 28, 2018), 83 FR 65198 (December 19, 2018), 84 FR 7966 (March 5, 2019), 84 FR 20459 (May 9, 2019), 84 FR 29576 (June 24, 2019), 84 FR 38717 (August 7, 2019), 84 FR 46212 (September 3, 2019), 84 FR 49591 (September 20, 2019), 84 FR 57803 (October 28, 2019), 84 FR 61674 (November 13, 2019), 84 FR 65882 (November 29, 2019), 84 FR 69012 (December 17, 2019), 85 FR 549 (January 6, 2020), 85 FR 6674 (February 5, 2020), 85 FR 9921 (February 20, 2020), 85 FR 15015 (March 16, 2020), 85 FR 17158 (March 26, 2020), 85 FR 23122 (April 24, 2020), 85 FR 27011 (May 6, 2020), 85 FR 27489 (May 8, 2020), 85 FR 32094 (May 28, 2020), 85 FR 34279 (June 3, 2020), 85 FR 38000 (June 24, 2020), 85 FR 42968 (July 15, 2020), 85 FR 48600 (August 11, 2020), 85 FR 52188 (August 24, 2020), 85 FR 57925 (September 16, 2020), 85 FR 63329 (October 7, 2020), 85 FR 63332 (October 7, 2020).

Effective September 24, 2018, the U.S. Trade Representative imposed additional 10 percent ad valorem duties on goods of China classified in 5,757 full and partial subheadings of the Harmonized Tariff Schedule of the United States (HTSUS), with an approximate annual trade value of $200 billion. See 83 FR 47974, as modified by 83 FR 49153. In May 2019, the U.S. Trade Representative increased the additional duty to 25 percent. See 84 FR 20459. On June 24, 2019, the U.S. Trade Representative established a process by which stakeholders could request exclusion of particular products classified within an 8-digit HTSUS subheading covered by the $200 billion action from the additional duties. See 84 FR 29576 (June 24 notice). The U.S. Trade Representative issued a notice setting out the process for the product exclusions and opened a public docket. The exclusions the U.S. Trade Representative granted under the $200 billion action expired on August 7, 2020. See 84 FR 38717 (August 7, 2019).

On May 6 and June 3, 2020, the U.S. Trade Representative invited the public to comment on whether to extend by up to 12 months, particular exclusions granted under the $200 billion action. See 85 FR 27011 (May 6, 2020); 85 FR 34279 (June 3, 2020). On August 11, 2020, the U.S. Trade Representative announced its determination to extend certain previously granted exclusions See 85 FR 48600 (August 11, 2020).

B. Technical Amendment to an Exclusion

Annex A contains one technical amendment to U.S. note 20(qq)(25) to subchapter III of chapter 99 of the HTSUS, as established in the annex of the notice published at 85 FR 6674 (February 5, 2020).

Annex A

Effective with respect to goods entered for consumption, or withdrawn from warehouse for consumption, on or after 12:01 a.m. eastern daylight time on September 24, 2018, and before August 7, 2020, U.S. note 20(qq)(25) to subchapter III of chapter 99 of the Harmonized Tariff Schedule of the United States is modified by deleting “zinc oxide absorbent” and by inserting “zinc oxide” in lieu thereof.

C. Technical Amendment to an Exclusion Extension

Annex B contains one technical amendment to U.S. note 20(iii)(54), to subchapter III of chapter 99 of the HTSUS, as established in the annex of the notice published at 85 FR 48600 (August 11, 2020).

Annex B

Effective with respect to goods entered for consumption, or withdrawn from warehouse for consumption, on or after 12:01 a.m. eastern daylight time on August 7, 2020, and through December 31, 2020, U.S. note 20(iii)(54) to subchapter III of chapter 99 of the Harmonized Tariff Schedule of the United States is modified by deleting “zinc oxide absorbent” and by inserting “zinc oxide” in lieu thereof.

Joseph Barloon.
General Counsel, Office of the United States Trade Representative.

[FR Doc. 2021-00865 Filed 1-14-21; 8:45 am]

BILLING CODE 3290-F0-P